NATIONAL ARCHIVES AND RECORDS ADMINISTRATION

36 CFR Part 1280

RIN 3095-AB17

NARA Facilities; Public Use

AGENCY: National Archives and Records Administration (NARA).

ACTION: Proposed rule.

SUMMARY: NARA is proposing to modify its regulations for using NARA facilities. Our existing regulations specify conduct rules on NARA property, which is defined as property under the control of the Archivist. We are proposing to add threats as a prohibited behavior because of the risk to persons and property potentially posed by threats, and because of the increased number of email and telephone threats received in NARA facilities. We are also proposing to specify the types of corrective action NARA imposes for prohibited behavior. This proposed rule specifies the formal procedures that we follow when banning individuals from our facilities and adds appeal procedures for individuals who want to request a reconsideration of the determination. Last, we are proposing to apply these changes to NARA property and to NARA-occupied space in facilities that are under the control of other agencies.

DATES: Comments are due by June 17, 2003.

ADDRESSES: Comments must be sent to Regulation Comments Desk (NPOL), Room 4100, Policy and Communications Staff, National Archives and Records Administration, 8601 Adelphi Road, College Park, MD 20740-6001. They may be faxed to 301-837-2902. Electronic comments may be submitted through Regulations.gov. You may also comment via e-mail to comments@nara.gov. See the SUPPLEMENTARY INFORMATION for details.

FOR FURTHER INFORMATION CONTACT: Kim Richardson at telephone number (301) 837-2902.

SUPPLEMENTARY INFORMATION: NARA's existing regulations specify conduct rules on NARA property. NARA property is defined to mean property under the control of the Archivist of the United States (the National Archives Building, the National Archives Building at College Park, and the Presidential libraries). We are proposing to add threats as a prohibited behavior because of the risk to persons and property potentially posed by threats, and because of the increased number of e-mail and telephone threats received in NARA facilities.

This proposed rule also specifies the types of corrective action that NARA imposes for prohibited behavior. These include any or all of the following:

• Removal from the premises (removal for up to seven calendar days) and possible law enforcement notification;

• Long-term banning (in up to one-year increments that includes automatic revocation of research privileges);

• Arrest for trespass; and

• Any additional corrective action as prescribed by law.

This proposed rule also contains the formal procedures that we follow when banning individuals from our facilities and appeal procedures for those individuals who want to request a reconsideration of the decision.

In addition to property under the control of the Archivist of the United States, NARA also occupies facilities under the control of other agencies (the regional records services facilities, the Washington National Records Center in Suitland, MD, the National Personnel Records Center in St. Louis, Missouri, and the Office of the Federal Register in Washington, DC). In our existing regulations, individuals on property occupied by NARA but controlled by other agencies must follow the conduct rules in the General Services Administration's (GSA) regulations (41 CFR part 102-74, subpart C). Though this remains unchanged, we are proposing to make threats a prohibited behavior at NARA-occupied facilities. We also propose to add removal and banning from the NARA-occupied space in those facilities under the control of other agencies as types of corrective action that NARA imposes for threatening behavior.

Please submit e-mail comments within the body of your e-mail message or attach comments avoiding the use of any form of encryption. Please also include “Attn: 3095-AB17” and your name and return address in your Internet message. If you do not receive a confirmation that we have received your e-mail message, contact the Regulation Comment Desk at (301) 837-2902.

This proposed rule is a significant regulatory action for the purposes of Executive Order 12866 and has been reviewed by the Office of Management and Budget. As required by the Regulatory Flexibility Act, I certify that this rule will not have a significant impact on a substantial number of small entities. This regulation does not have any federalism implications.

List of Subjects in 36 CFR Part 1280

Federal buildings and facilities.

For the reasons set forth in the preamble, NARA proposes to amend part 1280 of title 36, Code of Federal Regulations, chapter XII, as follows:

PART 1280—PUBLIC USE OF NARA FACILITIES

1. The authority citation for part 1280 is revised to read as follows:

Authority: 44 U.S.C. 2102 notes, 2104(a), 2112(a)(1)(A)(iii), 2903.

2. Amend § 1280.1 by revising paragraphs (b) and (c) and adding paragraph (d) as follows:

§ 1280.1 What is the purpose of this part?

* * * * *

(b) When you are using other NARA facilities, the General Services Administration (GSA) regulations, Conduct on Federal Property, at 41 CFR part 102-74, subpart C, apply to you. These facilities are the NARA regional records services facilities, the Washington National Records Center in Suitland, MD, the National Personnel Records Center in St. Louis, MO, and the Office of the Federal Register in Washington, DC. The rules in §§ 1280.32(l), 1280.34(a)(1) and (a)(2), and 1280.36 also apply to you. The rules in subpart B of this part also apply to you if you wish to film, take photographs, or make videotapes. The rules in subpart F of this part also apply to you if you wish to use the NARA-assigned conference rooms in those facilities.

(c) If you are using records in a NARA research room in a NARA facility, you must also follow the rules in 36 CFR part 1254. If you violate a rule or regulation in 36 CFR part 1254, you are subject to the types of corrective action set forth in that part, including revocation of research privileges.

(d) If you violate a rule or regulation in this part you are subject to, among other types of corrective action, removal and banning from the facility.

3. Amend § 1280.32 by adding paragraph (l) to read as follows:

§ 1280.32 What other behavior is not permitted?

* * * * *

(l) Threatening directly (e.g., in-person communications or physical gestures) or indirectly (e.g., via regular mail, electronic mail, or phone) any NARA employee, visitor, volunteer, contractor, other building occupants, or property.

4. Add § 1280.34 and § 1280.36 to subpart A to read as follows:

§ 1280.34 What are the types of corrective action NARA imposes for prohibited behavior?

(a) Individuals who violate the provisions of this part are subject to:

(1) Removal from the premises (removal for up to seven calendar days) and possible law enforcement notification;

(2) Banning from property owned or operated by NARA;

(3) Arrest for trespass; and

(4) Any additional types of corrective action prescribed by law.

(b) The regional administrator of the facility (or the director if so designated) has the authority to have the individual immediately removed and denied further access to the premises for up to seven calendar days. During this removal period, the Assistant Archivist for Administrative Services renders a decision on whether the individual should be banned from specific or all NARA facilities permanently or temporarily (in up to one-year increments). Long-term banning under this part includes automatic revocation of research privileges, notwithstanding the time periods set forth in 36 CFR 1254.20. Research privileges remain revoked until the ban is lifted, at which time an application for new privileges may be submitted.

(c) Upon written notification by the Assistant Archivist for Administrative Services, individuals may be banned from all NARA facilities. All NARA facilities will be notified of the banning of individuals.

§ 1280.36 May I file an appeal if I am banned from NARA facilities?

Yes, within 30 calendar days of receiving such notification, an individual may appeal the decision in writing. In the request, the individual must state the reasons for the appeal and mail it to the Deputy Archivist of the United States for reconsideration (address: National Archives and Records Administration (ND), 8601 Adelphi Road, College Park, MD 20740-6001). The Deputy Archivist has 30 calendar days from receipt of an appeal to make a decision to rescind, modify, or uphold the ban. If the ban is upheld, further requests by the affected individual will not be acted upon if received prior to the expiration of a period of one year from the date of the last request for reconsideration. After one year has passed, a further request for reconsideration will be considered, and the Deputy Archivist will decide, within 30 calendar days of receiving the request, whether the ban remains in place or is rescinded. Notice of the decision will be provided in writing to the affected individual.

5. Revise § 1280.100 to read as follows:

§ 1280.100 What are the rules of conduct at NARA regional records services facilities?

While at any NARA regional records services facility, you are subject to all of the following:

(a) The GSA regulations, Conduct on Federal Property (41 CFR part 102-74, subpart C);

(b) The rules in subparts B and F of this part;

(c) Section 1280.1(b) through (d);

(d) Section 1280.32(l);

(e) Section 1280.34 (a)(1) and (a)(2); and

(f) Section 1280.36.

Dated: April 10, 2003.
John W. Carlin,
Archivist of the United States.

[FR Doc. 03-9585 Filed 4-17-03; 8:45 am]

BILLING CODE 7515-01-P